DEPARTMENT OF ENERGY

Federal Energy Regulatory Commission

[Docket No. AD16-24-000]

Winter 2018-2019 Operations and Market Performance in Regional Transmission Organizations and Independent System Operators; Supplemental Notice of Technical Conference

As announced in a Notice of Technical Conference issued on September 10, 2018, Federal Energy Regulatory Commission (Commission) staff will hold a technical conference, after the October 2018 Commission public meeting, to hear from the Regional Transmission Organizations (RTOs) and Independent System Operators (ISOs) ¹ on their efforts for ensuring reliable and economic system performance during the 2018-2019 winter season. The technical conference will take place on October 18, 2018 at the Commission's offices at 888 First Street NE, Washington, DC beginning at 2:00 p.m. and ending at 3:30 p.m. (Eastern Time). Commission staff will lead the technical conference, and the Chairman and Commissioners may attend.

¹ The technical conference will include representatives from California Independent System Operator Corporation, ISO New England Inc., Midcontinent Independent System Operator, Inc., New York Independent System Operator, Inc., PJM Interconnection, L.L.C., and Southwest Power Pool, Inc.

The agenda for this technical conference is attached.

All interested persons may attend the conference, and registration is not required. However, in-person attendees are encouraged to register on-line at: https://www.ferc.gov/whats-new/registration/10-18-18-form.asp. In-person attendees should allow time to pass through building security procedures before the 2:00 p.m. start time of the technical conference.

This technical conference will be transcribed and webcast. Transcripts will be available immediately for a fee from Ace Reporting (202-347-3700). A link to the webcast of this event will be available in the Commission Calendar of Events at www.ferc.gov. The Capitol Connection provides technical support for the webcasts and offers the option of listening to the conference via phone-bridge for a fee. For additional information, visit www.CapitolConnection.org or call 703-993-3100.

While this conference is not for the purpose of discussing specific cases, it may address matters at issue in the following Commission proceedings that are pending:

• ISO New England Inc.: ISO New England Inc., Docket No. ER17-795-000 and ER17-795-001; ISO New England Inc., Docket No. ER18-1509-000; ISO New England Inc., Docket No. EL18-182-000; ISO New England Inc., Docket No. ER18-1639-000; ISO New England Inc., Docket No. ER18-1639-001; ISO New England Inc., Docket No. ER18-2364-000; ISO New England Inc., Docket No. ER18-619-000; ISO New England Inc., Docket No. ER18-619-001; ISO New England Inc., Docket No. ER13-2266-000, et al.

• New York Independent System Operator, Inc.: N.Y. Indep. Sys. Operator, Inc., Docket No. ER16-120-007.

• PJM Interconnection, L.L.C.: Energy Storage Association v. PJM Interconnection, L.L.C., Docket No. EL17-64-000; Renewable Energy Systems Americas v. PJM Interconnection, L.L.C., Docket No. EL17-65-000; PJM Interconnection, L.L.C., Docket No. ER16-372-000, et al.; Independent Market Monitor for PJM v. American Electric Power Corp., Docket No. EL17-22-000, et al.; PJM Interconnection, L.L.C., Docket No. ER18-87-000, et al.; PJM Interconnection, L.L.C., Docket No. EL18-34-000; ER18-1314-000, et al.; Calpine Corporation et. al. v. PJM Interconnection, L.L.C., Docket No. EL16-49-000, et. al.; PJM Interconnection, L.L.C., Docket No. EL18-178-000, et al.; CPV Power Holdings, L.P., et. al. v. PJM Interconnection, L.L.C., Docket No. EL18-169-000; PJM Interconnection, L.L.C., Docket No. ER18-988-000, et. al.; PJM Interconnection, L.L.C., Docket No. EL14-48-000, et. al.

• California Independent System Operator Corp.: CXA La Paloma, LLC v. Cal. Indep. Sys. Operator Corp., Docket No. EL18-177-000; Cal. Indep. Sys. Operator Corp., Docket No. ER18-2369-000; Cal. Indep. Sys. Operator Corp., Docket No. ER18-2520-000.

Commission conferences are accessible under section 508 of the Rehabilitation Act of 1973. For accessibility accommodations please send an email to accessibility@ferc.gov or call toll free (866) 208-3372 (voice) or (202) 502-8659 (TTY), or send a fax to (202) 208-2106 with the requested accommodations.

For more information about this technical conference, please contact David Rosner at 202-502-8479, david.rosner@ferc.gov, or Samin Peirovi at 202-502-8080, samin.peirovi@ferc.gov. For information related to logistics, please contact Sarah McKinley at 202-502-8368, sarah.mckinley@ferc.gov.

Dated: October 16, 2018.
Nathaniel J. Davis, Sr.,
Deputy Secretary.

[FR Doc. 2018-22950 Filed 10-19-18; 8:45 am]

BILLING CODE 6717-01-P